DEPARMENT OF HEALTH AND HUMAN SERVICES

Health Resources and Services Administration

Regional AIDS Education and Training Centers; Open Competition Announcement

AGENCY: Health Resources and Services Administration, HHS.

ACTION: Notice of Open Competition Grant Program.

SUMMARY: The Health Resources and Services Administration (HRSA), HIV/AIDS Bureau (HAB), announces that applications will be accepted for fiscal year (FY) 2002 awards for up to three Regional AIDS Education and Training Centers (AETCs) to provide services to Michigan, Ohio, Kentucky, New York, Tennessee, and New Jersey. The Regional AETCs will provide services in regions consisting of two or more States; existing regional AETCs may apply to expand their current areas by one or more States. The regional AETCs enhance the availability of high quality HIV care through training and support of clinical providers, and prioritize the clinical educational needs of direct medical care providers, physicians, nurses, physicians assistants, advance practice nurses, pharmacists, and oral health providers. The regional AETCs conduct assessments of regional HIV/AIDS care delivery systems and develop innovative programs to build HIV/AIDS care capacity, through training and support, to fill identified gaps. The regional AETCs target clinical providers caring for minority and disproportionately affected populations, particularly minority providers and those associated with Ryan White Comprehensive AIDS Resources Emergency (CARE) Act supported facilities.

Availability of Funds: It is anticipated that up to three grant recipients will be selected as regional AETCs, and total available funds are approximately $4,000,000. Grant periods are for 2 years and 9 months, with initial funding for 9 months. Continuation awards will be made on the basis of satisfactory progress and the availability of funds.

Eligible Applicants: Grants may be awarded to public or private non-profit entities including schools and academic health sciences centers. Faith-based and community-based organizations are eligible to apply.

Authorizing Legislation: The Authority for this grant program is Section 2692(a) of the Public Health Service Act, as amended, 42 U.S.C. 300ff-111(a).

DATES: A letter of intent to submit an application is requested by August 27, 2002. Applications for this grant must be received in the HRSA Grant Application Center by close of business September 12, 2002. Applications shall be considered as meeting the deadline if they are received on or before the deadline date. Applicants should request a legibly dated receipt from a commercial carrier or U.S. Postal Service postmark. Private metered postmarks will not be accepted as proof of timely mailing. Applications postmarked after the due date will be returned to the applicant.

Where to Request and Send an Application

To obtain an application kit: Call the HRSA Grants Application Center at 877-477-2123 and request the OMB Catalogue of Federal Domestic Assistance number 93.145.

ADDRESSES: Letter of intent to apply for funding should be mailed to Marisol M. Rodriguez, HIV/AIDS Bureau, HRSA, 5600 Fishers Lane, Room 7-46, Rockville, Maryland, 20857. All applications should be mailed or delivered to HRSA Grant Application Center, 901 Russell Avenue, Suite 450, Gaithersburg, Maryland 20879. Grant applications sent to any other address are subject to being returned. Federal Register notices are available on the world wide web via the Internet. The Web address for HAB is http://www.hrsa.gov/hab/.

FOR FURTHER INFORMATION CONTACT: Additional technical information may be obtained from Marisol M. Rodriguez, HIV/AIDS Bureau (HAB), HRSA, 5600 Fishers Lane, Room 7-46, Rockville, Maryland 20857. The telephone number is (301) 443-4082; fax number (301) 443-9887; and the e-mail is mrodriguez@hrsa.gov. You may also contact Laura W. Cheever, M.D., Chief, HIV Education Branch, Division of Training and Technical Assistance, HAB, HRSA, 5600 Fishers Lane, Room 7-46, Rockville, Maryland 20857. Her telephone number is (301) 443-3067 and fax number is (301) 443-9887.

SUPPLEMENTARY INFORMATION: Applications will be reviewed by an objective review committee using the following criteria: Adequacy of Comprehensive Regional Needs Assessment, Adequacy of the Proposed Program Plan for Providing Education and Training Activities, HIV Expertise within the Regional AETC; Coordination and Collaboration; Management, Plan, Staffing, Project Organization and Resources, Program Documentation, Evaluation and Quality Improvement, and Appropriateness, and Justification of the Budget. The Secretary shall give preference to qualified projects which will-

(A)Train, or result in the training of, health professionals who will provide treatment for minority individuals with HIV disease and other individuals who are at high risk of contracting such disease; and

(B)Train, or result in the training of, minority health professional and minority allied health professionals to provide treatment for individuals with such disease.

Paperwork Reduction Act: If there is a data collection associated with this application OMB approval will be sought.

Dated: July 22, 2002.
Elizabeth M. Duke,
Administrator.

[FR Doc. 02-20556 Filed 8-12-02; 8:45 am]

BILLING CODE 4165-15-P